DEPARTMENT OF THE INTERIOR

Bureau of Indian Affairs

[189A2100DD/AAKC001030/A0A501010.999900 253G; OMB Control Number 1076-0135]

Agency Information Collection Activities; Submission to the Office of Management and Budget for Review and Approval; Reporting Systems for Public Law 102-477 Demonstration Project

AGENCY: Bureau of Indian Affairs, Interior.

ACTION: Notice of information collection; request for comment.

SUMMARY: In accordance with the Paperwork Reduction Act of 1995, we, the Bureau of Indian Affairs (BIA) are proposing to renew an information collection with revisions.

DATES: Interested persons are invited to submit comments on or before March 30, 2018.

ADDRESSES: Send written comments on this information collection request (ICR) to the Office of Management and Budget's Desk Officer for the Department of the Interior by email at OIRA_Submission@omb.eop.gov; or via facsimile to (202) 395-5806. Please provide a copy of your comments Mr. Terrence Parks, Chief, Division of Workforce Development, Bureau of Indian Affairs—Indian Services, 1849 C S.T. NW, MS-3645-MIB, Washington, DC 20240; facsimile: (202) 513-7625; email: Terrence.Parks@bia.gov. Please reference OMB Control Number 1076-0135 in the subject line of your comments.

FOR FURTHER INFORMATION CONTACT: To request additional information about this ICR, contact Mr. Terrence Parks, telephone (202) 513-7625. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 16, 2017 (82 FR 48111). No comments were received.

We are again soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The BIA—Indian Services is seeking revisions for the information collection Reporting System for Public Law 102-477 Demonstration Project. This information allows the Division of Workforce Development (DWD), which reports to the BIA—Indian Services, to document satisfactory compliance with statutory, regulatory, and other requirements of the various integrated programs. Public Law 102-477 authorized tribal governments to integrate federally funded employment, training, and related services and programs into a single, coordinated, comprehensive service delivery plan. Funding agencies include the Department of Labor and the Department of Health and Human Services. BIA is statutorily required to serve as the lead agency and provides a single, universal report format for use by tribal governments to report on integrated activities and expenditures. The DWD shares the information collected from these reports with the Department of Labor and the Department of Health and Human Services. This renewal will be revised to include information collected under 25 CFR part 26 to administer the job placement and training program, through Tribes, which provides vocational/technical training, related counseling, guidance, and job placement services, and limited financial assistance to Indian individuals who are not less than 18 years old and who reside with the Department of the Interior (DOI) approved service areas. Public Law 102-477 allows tribes to consolidate into a single plan, single budget and single report to one office programs they currently have under contract or grant. The job placement and training program has been included in these 477 plans. Since tribes determine which programs will be included, the plans vary from tribe to tribe. Submission of this information allows DOI, through Tribes, to administer the job placement and training program, which provides vocational/technical training, related counseling, guidance, job placement services, and limited financial assistance to Indian individuals who are not less than 18 years old and who reside within DOI approved service areas.

Title of Collection: Reporting System for Public Law 102-477 Demonstration Project.

OMB Control Number: 1076-0135.

Form Number: BIA-8205.

Type of Review: Extension of a currently approved collection.

Respondents/Affected Public: Indian tribes participating in Public Law 102-477 and individuals.

Total Estimated Number of Annual Respondents: 237.

Total Estimated Number of Annual Responses: 237.

Estimated Completion Time per Response: Varies from half an hour to four hours.

Total Estimated Number of Annual Burden Hours: 919.

Respondent's Obligation: Required to Obtain a Benefit.

Frequency of Collection: Once annually for the reporting, and once annually for the job placement and training application.

Total Estimated Annual Nonhour Burden Cost: $320.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2018-04027 Filed 2-27-18; 8:45 am]

BILLING CODE 4337-15-P